DEPARTMENT OF TRANSPORTATION

Federal Aviation Administration

Agency Information Collection Activities: Requests for Comments; Clearance of Renewed Approval of Information Collection: Pilot Certification and Qualification Requirements for Air Carrier Operations

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on April 9, 2015. FAA aviation safety inspectors review Airline Transport Pilot (ATP) Certification Training Program (CTP) submittals to determine that the program complies with the applicable requirements of 14 CFR 61.156.

DATES: Written comments should be submitted by July 22, 2015.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Ronda Thompson at (202) 267-1416, or by email at: Ronda.Thompson@faa.gov.

SUPPLEMENTARY INFORMATION:

OMB Control Number: 2120-0755.

Title: Pilot Certification and Qualification Requirements for Air Carrier Operations.

Form Numbers: FAA Form 8700-1.

Type of Review: Revision of an information collection.

Background: The Federal Register Notice with a 60-day comment period soliciting comments on the following collection of information was published on April 9, 2015 (80 FR 19107). FAA aviation safety inspectors review the Airline Transport Pilot (ATP) Certification Training Program (CTP) submittals to determine that the program complies with the applicable requirements of 14 CFR 61.156. The programs that comply with the minimum requirements receive approval to begin offering or providing the course to applicants for an ATP certificate with a multiengine class rating or an ATP certificate obtained concurrently with an airplane type rating. The inspectors also review an institution of higher education's application (new form) for the authority to certify its graduates meet the minimum requirements of 14 CFR 61.160. The institutions of higher education that receive a letter of authorization for their degree program(s) will be authorized to place a certifying statement on a graduates' transcript indicating he or she is eligible for a restricted privileges ATP certificate. For those institutions of higher education that have received the Letter of Authorization (LOA) from the FAA to certify graduates for a restricted privileges ATP certificate that would like to add degree programs or additional coursework to the authorization, they must submit an application for revision. FAA will review the revised application, and amend the LOA accordingly.

Respondents: Approximately 50 new applicants.

Frequency: Information is collected on occasion.

Estimated Average Burden per Response: 120 hours for ATP CTP course development, 8 hours for application for the authority to certify that graduates meet the minimum requirements of 14 CFR 61.160, 2 hours for revision application for authority to certify graduates for a restricted privileges ATP certificate.

Estimated Total Annual Burden: 1,411.75 hours.

Issued in Washington, DC, on June 16, 2015.
Ronda Thompson,
FAA Information Collection Clearance Officer, IT Enterprises Business Services Division, ASP-110.

[FR Doc. 2015-15268 Filed 6-19-15; 8:45 am]

BILLING CODE 4910-13-P